DEPARTMENT OF HEALTH AND HUMAN SERVICES

Health Resources and Services Administration

National Vaccine Injury Compensation Program; List of Petitions Received

AGENCY: Health Resources and Services Administration (HRSA), Department of Health and Human Services (HHS).

ACTION: Notice.

SUMMARY: HRSA is publishing this notice of petitions received under the National Vaccine Injury Compensation Program (the Program), as required by the Public Health Service (PHS) Act, as amended. While the Secretary of HHS is named as the respondent in all proceedings brought by the filing of petitions for compensation under the Program, the United States Court of Federal Claims is charged by statute with responsibility for considering and acting upon the petitions.

FOR FURTHER INFORMATION CONTACT: For information about requirements for filing petitions, and the Program in general, contact Lisa L. Reyes, Clerk of Court, United States Court of Federal Claims, 717 Madison Place NW, Washington, DC 20005, (202) 357-6400. For information on HRSA's role in the Program, contact the Director, National Vaccine Injury Compensation Program, 5600 Fishers Lane, Room 08N146B, Rockville, Maryland 20857; (301) 443-6593, or visit our website at: http://www.hrsa.gov/vaccinecompensation/index.html.

SUPPLEMENTARY INFORMATION: The Program provides a system of no-fault compensation for certain individuals who have been injured by specified childhood vaccines. Subtitle 2 of title XXI of the PHS Act, 42 U.S.C. 300aa-10 et seq., provides that those seeking compensation are to file a petition with the United States Court of Federal Claims and to serve a copy of the petition to the Secretary of HHS, who is named as the respondent in each proceeding. The Secretary has delegated this responsibility under the Program to HRSA. The Court is directed by statute to appoint special masters who take evidence, conduct hearings as appropriate, and make initial decisions as to eligibility for, and amount of, compensation.

A petition may be filed with respect to injuries, disabilities, illnesses, conditions, and deaths resulting from vaccines described in the Vaccine Injury Table (the Table) set forth at 42 CFR 100.3. This Table lists for each covered childhood vaccine the conditions that may lead to compensation and, for each condition, the time period for occurrence of the first symptom or manifestation of onset or of significant aggravation after vaccine administration. Compensation may also be awarded for conditions not listed in the Table and for conditions that are manifested outside the time periods specified in the Table, but only if the petitioner shows that the condition was caused by one of the listed vaccines.

Section 2112(b)(2) of the PHS Act, 42 U.S.C. 300aa-12(b)(2), requires that “[w]ithin 30 days after the Secretary receives service of any petition filed under section 2111 the Secretary shall publish notice of such petition in the Federal Register.” Set forth below is a list of petitions received by HRSA on November 1, 2021, through November 30, 2021. This list provides the name of petitioner, city and state of vaccination (if unknown then city and state of person or attorney filing claim), and case number. In cases where the Court has redacted the name of a petitioner and/or the case number, the list reflects such redaction.

Section 2112(b)(2) also provides that the special master “shall afford all interested persons an opportunity to submit relevant, written information” relating to the following:

1. The existence of evidence “that there is not a preponderance of the evidence that the illness, disability, injury, condition, or death described in the petition is due to factors unrelated to the administration of the vaccine described in the petition,” and

2. Any allegation in a petition that the petitioner either:

a. “[S]ustained, or had significantly aggravated, any illness, disability, injury, or condition not set forth in the Vaccine Injury Table but which was caused by” one of the vaccines referred to in the Table, or

b. “[S]ustained, or had significantly aggravated, any illness, disability, injury, or condition set forth in the Vaccine Injury Table the first symptom or manifestation of the onset or significant aggravation of which did not occur within the time period set forth in the Table but which was caused by a vaccine” referred to in the Table.

In accordance with Section 2112(b)(2), all interested persons may submit written information relevant to the issues described above in the case of the petitions listed below. Any person choosing to do so should file an original and three (3) copies of the information with the Clerk of the United States Court of Federal Claims at the address listed above (under the heading “For Further Information Contact”), with a copy to HRSA addressed to Director, Division of Injury Compensation Programs, Healthcare Systems Bureau, 5600 Fishers Lane, 08N146B, Rockville, Maryland 20857. The Court's caption (Petitioner's Name v. Secretary of HHS) and the docket number assigned to the petition should be used as the caption for the written submission. Chapter 35 of title 44, United States Code, related to paperwork reduction, does not apply to information required for purposes of carrying out the Program.

Diana Espinosa,
Acting Administrator.

List of Petitions Filed

1. Rusty Ross Alto, Ellicott City, Maryland, Court of Federal Claims No: 21-2116V

2. Richard Lucero, Denver, Colorado, Court of Federal Claims No: 21-2117V

3 Josephine Lebar, Sarasota, Florida, Court of Federal Claims No: 21-2118V

4. Raithe Pace, Lansdale, Pennsylvania, Court of Federal Claims No: 21-2122V

5. Denise Shanno, Council Bluffs, Iowa, Court of Federal Claims No: 21-2123V

6. Christina Lane on behalf of C. L., Phoenix, Arizona, Court of Federal Claims No: 21-2124V

7. Marlon T. Young, Boscobel, Wisconsin, Court of Federal Claims No: 21-2127V

8. Tandy Hamilton, Goodyear, Arizona, Court of Federal Claims No: 21-2130V

9. Jason R. Kinsey, Greenville, North Carolina, Court of Federal Claims No: 21-2132V

10. Sherri Pulsipher, Las Vegas, Nevada, Court of Federal Claims No: 21-2133V

11. Robert Duhaime, Lakeland, Florida, Court of Federal Claims No: 21-2134V

12. Debbie L. Aretz on behalf of Estate of Sally Jo Bennett, Deceased, Paw Paw, Michigan, Court of Federal Claims No: 21-2135V

13. Eric Adamczyk on behalf of J. A., Pittsburgh, Pennsylvania, Court of Federal Claims No: 21-2136V

14. Angelina M. Lombardo, Buffalo, New York, Court of Federal Claims No: 21-2137V

15. Anthony Beauford, Southfield, Michigan, Court of Federal Claims No: 21-2139V

16. Katharine Storch on behalf of the Estate of Anna Beracz, Deceased, Willoughby Hills, Ohio, Court of Federal Claims No: 21-2140V

17. Mary Lou Hilvers, Cincinnati, Ohio, Court of Federal Claims No: 21-2144V

18. Patricia Hupp, Westerville, Ohio, Court of Federal Claims No: 21-2145V

19. Michael Wade, Louisville, Ohio, Court of Federal Claims No: 21-2149V

20. Leonard DiTomaso, Ho-Ho-Kus, New Jersey, Court of Federal Claims No: 21-2152V

21. Rhonda Lindsay, Farmington Hills, Michigan, Court of Federal Claims No: 21-2153V

22. Jeremy Harmon on behalf of B. H., Phoenix, Arizona, Court of Federal Claims No: 21-2154V

23. Carol Lester, Harker Heights, Texas, Court of Federal Claims No: 21-2155V

24. Alisa Jett-Crawford, Ocala, Florida, Court of Federal Claims No: 21-2157V

25. Crystal B. Smith, Aiken, South Carolina, Court of Federal Claims No: 21-2158V

26. Maryeileen Scott, Fort Rucker, Alabama, Court of Federal Claims No: 21-2159V

27. Kevin Hayes, Groton, Massachusetts, Court of Federal Claims No: 21-2162V

28. Frederick Neri and Elizabeth Neri on behalf of F. N., Phoenix, Arizona, Court of Federal Claims No: 21-2163V

29. Lori Black, Columbus, Ohio, Court of Federal Claims No: 21-2164V

30. Sarah Scarboro, Hodges, South Carolina, Court of Federal Claims No: 21-2166V

31. Mary Moreno, San Diego, California, Court of Federal Claims No: 21-2169V

32. Stephanie Stimson, Durant, Oklahoma, Court of Federal Claims No: 21-2171V

33. Shane Gabis, Cary, North Carolina, Court of Federal Claims No: 21-2172V

34. Carolyn Dianne Conn, Georgetown, Texas, Court of Federal Claims No: 21-2173V

35. Cortney Perez and Javiere Valdez on behalf of E. V., Princeton, Indiana, Court of Federal Claims No: 21-2174V

36. Larry Lenz, San Antonio, Texas, Court of Federal Claims No: 21-2176V

37. Michael Wade, Missoula, Montana, Court of Federal Claims No: 21-2177V

38. Jo Sutton, Dallas, Texas, Court of Federal Claims No: 21-2178V

39. Darren Champion, Boulder, Colorado, Court of Federal Claims No: 21-2179V

40. Donna Jackson, Springfield, Missouri, Court of Federal Claims No: 21-2180V

41. Parris Hitchcock, Taylorsville, Georgia, Court of Federal Claims No: 21-2184V

42. Terry Collins, Venice, Florida, Court of Federal Claims No: 21-2188V

43. Marta Irizarry—Calderon, Kissimmee, Florida, Court of Federal Claims No: 21-2189V

44. Alice Raye Carpenter, Gold Beach, Oregon, Court of Federal Claims No: 21-2192V

45. Edward J. Sedan, Emerson, New Jersey, Court of Federal Claims No: 21-2194V

46. Kim Rinella, Gurnee, Illinois, Court of Federal Claims No: 21-2196V

47. Shannon Lynne Brodeur, Houghton, Michigan, Court of Federal Claims No: 21-2198V

48. Charlene Carter, Fort Pierce, Florida, Court of Federal Claims No: 21-2201V

49. Theresa Kelly, Lubbock, Texas, Court of Federal Claims No: 21-2202V

50. Alba Pallone, Milford, Connecticut, Court of Federal Claims No: 21-2205V

51. Stacey Connors, Mechanicsburg, Pennsylvania, Court of Federal Claims No: 21-2206V

52. Fran Baskin, Silver Spring, Maryland, Court of Federal Claims No: 21-2207V

53. Paul Geiser, Dover, Pennsylvania, Court of Federal Claims No: 21-2212V

54. Romeo Allas, Santa Clarita, California, Court of Federal Claims No: 21-2215V

55. Brenda Perez, Los Angeles, California, Court of Federal Claims No: 21-2216V

56. Arilyanne Velazquez and Melvin Jones on behalf of L. J., Phoenix, Arizona, Court of Federal Claims No: 21-2217V

57. Vanessa Boling on behalf of K. B., Phoenix, Arizona, Court of Federal Claims No: 21-2218V

58. Steven Beachy, Washington, District of Columbia, Court of Federal Claims No: 21-2219V

59. Ronald Martin, Summerville, South Carolina, Court of Federal Claims No: 21-2220V

60. Stephanie Poppen, Waynesville, Missouri, Court of Federal Claims No: 21-2221V

61. Kelly Wyble, Belton, Missouri, Court of Federal Claims No: 21-2222V

62. Kaleigh Watts, Gilbert, South Carolina, Court of Federal Claims No: 21-2223V

63. Jacqueline Bejarano on behalf of M. F. B., Rancho Cucamonga, California, Court of Federal Claims No: 21-2224V

64. Ezra Zakoo, Seattle, Washington, Court of Federal Claims No: 21-2226V

65. Michele Damiano, Phoenix, Arizona, Court of Federal Claims No: 21-2227V

66. Moira MacAvoy, Charlottesville, Virginia, Court of Federal Claims No: 21-2228V

67. Shannon Perez, Dresher, Pennsylvania, Court of Federal Claims No: 21-2229V

68. Riana Proia on behalf of A. M., Dresher, Pennsylvania, Court of Federal Claims No: 21-2234V

69. Alden Harmon, St. Charles, Missouri, Court of Federal Claims No: 21-2236V

70. Gordon Pari, Englewood, New Jersey, Court of Federal Claims No: 21-2237V

71. Taylor Parker, Englewood, New Jersey, Court of Federal Claims No: 21-2238V

[FR Doc. 2021-27076 Filed 12-14-21; 8:45 am]

BILLING CODE 4165-15-P